DEPARTMENT OF ENERGY

Federal Energy Regulatory Commission

[Docket No. ER02-2595, et al.]

Notice of Commission Staff Attendance at Midwest ISO Advisory Committee and Annual Stakeholder Meetings

March 21, 2006.

The Federal Energy Regulatory Commission hereby gives notice that members of its staff may attend the following Midwest Independent Transmission System Operator, Inc. (Midwest ISO) Advisory Committee and Annual Stakeholder Meetings:

• Midwest ISO Advisory Committee Meeting—April 12, 2006, 10 a.m.-11 a.m. (EST)

Lakeside Conference Center, 630 West Carmel Drive, Carmel, IN 46032.

• Midwest ISO Annual Stakeholder Meeting—April 19, 2006, 10 a.m.-4 p.m. (EST)

Marriott Indianapolis North, 3645 River Crossing parkway, Indianapolis, IN 46240. 800-228-9290.

For further information regarding the times and agendas of meetings, please see http://www.midwestiso.org/calendar/index.php or http://www.midwestmarket.org.home.

The discussions at each of the meetings described above may address matters at issue in the following proceedings:

Docket No. ER02-2595, et al., Midwest Independent Transmission System Operator, Inc.

Docket No. ER04-375, Midwest Independent Transmission System Operator, Inc., et al.

Docket No. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-752, Midwest Independent Transmission System Operator, Inc. and PJM Interconnection, L.L.C.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket No. ER06-18, Midwest Independent Transmission System Operator, Inc.

Docket No. ER06-27, Midwest Independent Transmission System Operator, Inc., et al.

Docket Nos. EC06-4 and ER06-20, LGE Energy LLC, et al.

Docket No. ER06-360, et al., Midwest Independent Transmission System Operator, Inc., et al.

Docket No. ER06-356, Midwest Independent Transmission System Operator, Inc.

Docket No. ER06-532, Midwest Independent Transmission System Operator, Inc.

Docket No. EL06-31, Midwest Independent Transmission System Operator, Inc., et al.

Docket No. EL06-49, Midwest Independent Transmission System Operator, Inc., et al.

Docket No. ER06-56, Midwest Independent Transmission System Operator, Inc.

These meetings are open to the public.

For more information, contact Patrick Clarey, Office of Energy Markets and Reliability, Federal Energy Regulatory Commission at (317) 249-5937 or patrick.clarey@ferc.gov, or Christopher Miller, Office of Energy Markets and Reliability, Federal Energy Regulatory Commission at (317) 249-5936 or christopher.miller@ferc.gov.

Magalie R. Salas,
Secretary.

[FR Doc. E6-4461 Filed 3-27-06; 8:45 am]

BILLING CODE 6717-01-P